DEPARTMENT OF TRANSPORTATION

Federal Transit Administration

[Docket No. FTA-2006-24037]

Elderly Individuals and Individuals With Disabilities, Job Access and Reverse Commute, New Freedom Programs and Coordinated Public Transit-Human Services Plans: Notice of Public Meeting, Interim Guidance for FY06 Implementation, and Proposed Strategies for FY07

AGENCY: Federal Transit Administration (FTA), DOT.

ACTION: Extension of comment period.

SUMMARY: The Federal Transit Administration is extending the comment period through May 22, 2006, for interested parties to submit comments to assist FTA in developing guidance in the form of circulars to help grantees in implementing the Elderly Individuals and Individuals With Disabilities Program, the Job Access and Reverse Commute Program, and the New Freedom Program beginning in FY07.

DATES: Comments must be received by May 22, 2006. Comments received after this date will be considered to the extent practicable.

ADDRESSES: You may submit comments identified by the docket number [FTA-2006-24037] by any of the following methods: Web site: http://dms.dot.gov. (follow the instructions for submitting comments on the DOT electronic docket site); Fax: 1-202-493-2251; Mail: Docket Management System; U.S. Department of Transportation, 400 Seventh Street, SW., Nassif Building, Room PL-401, Washington, DC 20590-001; or Hand Delivery: To the Docket Management System; Room PL-401 on the plaza level of the Nassif Building, 400 Seventh Street, SW., Washington, DC between 9 a.m. and 5 p.m., Monday through Friday, except Federal Holidays.

You should include the agency name and docket number [FTA-2006-24037] for this notice at the beginning of your comment. Note that all comments received will be posted without change to http://dms.dot.gov including any personal information provided. You may view the public docket through the Internet at http://dms.dot.gov or in person at the Docket Management System office at the above address.

FOR FURTHER INFORMATION CONTACT: Henrika Buchanan-Smith or Bryna Helfer, Office of Program Management, Federal Transit Administration, 400 Seventh Street, SW., Room 9114, Washington, DC 29590. Phone: 202-366-4020, Fax 202-366-7951, or e-mail, Henrika.Buchanan-Smith@fta.dot.gov; Bryna.Helfer@fta.dot.gov; or Bonnie Graves, Office of Chief Counsel, Federal Transit Administration, 400 Seventh Street, SW., Room 9316, Washington, DC 20590. Phone 202-366-4011, Fax: 202-366-3809 or e-mail, Bonnie.Graves@fta.dot.gov.

SUPPLEMENTARY INFORMATION: On March 15, 2006, the Federal Transit Administration issued a notice containing guidance for FY06 implementing, notice Aden request for comment for FY07 implementation, and announcement of public meeting for its Elderly Individuals and Individuals with Disabilities, Job Access and Reverse Commute, New Freedom Programs and Coordinated Public Transit-Human Services Transportation Plans (71 FR 13456). By this notice, FTA is seeking additional public comment to assist them in developing circulars for these programs. The comment closing date is scheduled for April 21, 2006, however, the Consortium for Citizens with Disabilities, has requested an extension of the comment period. The FTA agrees that an extension of the comment period would be useful to permit the Consortium for Citizens with Disabilities sufficient time to coordinate a comprehensive task force member response. Additionally, such an extension will give other parties additional time to provide thoughtful comments to FTA. Accordingly, FTA finds that good cause exists to extend the comment period on the notice from April 21, 2006, to May 22, 2006.

Issued in Washington, DC this 13th day of April, 2006.
Sandra K. Bushue,
Deputy Administrator.

[FR Doc. 06-3734 Filed 4-18-06; 8:45 am]

BILLING CODE 4910-57-M